NATIONAL ARCHIVES AND RECORDS ADMINISTRATION

[NARA 2014-047]

Office of Government Information Services (OGIS), Freedom of Information Act (FOIA) Advisory Committee Special Notice; Correction

AGENCY: National Archives and Records Administration.

ACTION: Notice; correction.

SUMMARY: The National Archives and Records Administration published a notice in the Federal Register of May 27, 2014, announcing a meeting for the FOIA Advisory Committee. The notice provided incorrect information. This document corrects the errors by providing the correct information.

FOR FURTHER INFORMATION CONTACT: Christa Lemelin, Designated Federal Officer, by mail at the National Archives and Records Administration, Office of Government Information Services, 8601 Adelphi Road—OGIS, College Park, MD 20740-6001; Telephone 202-741-5773; email Christa.Lemelin@nara.gov; or Fax 202-741-5769.

Correction: In FR Doc. 2014-12146, published on May 27, 2014, on page 30184, in the second column, correct the SUPPLEMENTARY INFORMATION to read:

The FOIA Advisory Committee was established in accordance with the second U.S. Government National Action Plan and the directive in the FOIA, 5 U.S.C. 552(h)(1)(C), that OGIS “recommend policy changes . . . to improve” FOIA administration. The Committee is governed by the provisions of the Federal Advisory Committee Act, as amended, 5 U.S.C. App. The Committee serves as a deliberative body to advise on improvements to FOIA administration. The Committee studies the current FOIA landscape across the Executive Branch and may recommend legislative action, policy changes or executive action, among other matters. Details regarding the committee and how to submit comments to the Committee are available in the “FOIA Advisory Committee” section of OGIS's Web site, at https://ogis.archives.gov/foia-advisory-committee.htm In addition, OGIS will post updates regarding the Committee to its blog, The FOIA Ombudsman, at http://blogs.archives.gov/foiablog/

Correction: In FR Doc. 2014-12146, published on May 27, 2014, on page 30184, in the second column, correct the FOR FURTHER INFORMATION CONTACT to read:

FOR FURTHER INFORMATION CONTACT: Christa Lemelin, Designated Federal Officer, by mail at the National Archives and Records Administration, Office of Government Information Services, 8601 Adelphi Road—OGIS, College Park, MD 20740-6001; Telephone 202-741-5773; email Christa.Lemelin@nara.gov; or Fax 202-741-5769.

Dated: July 31, 2014.
Patrice Little Murray,
Acting Committee Management Officer.

[FR Doc. 2014-18565 Filed 8-5-14; 8:45 am]

BILLING CODE 7515-01-P